DEPARTMENT OF JUSTICE

Notice of Lodging of Proposed Consent Decree Under the Comprehensive Environmental Response, Compensation, and Liability Act

On July 22, 2014, the Department of Justice lodged a proposed Consent Decree with the United States District Court for the Northern District of Ohio in the lawsuit entitled United States of America v. OSRAM SYLVANIA Inc. and Philips Electronics North America Corporation 3:14-cv-1621.

The Complaint in this matter, filed simultaneously with the Consent Decree, alleges that OSRAM SYLVANIA Inc. (“OSRAM”) and Philips Electronics North America Corporation (“Philips”) are liable under Section 107(a)(3) of the Comprehensive Environmental Response, Compensation, and Liability Act (“CERCLA”) because they generated hazardous substances and arranged for the disposal of those substances at the Ottawa Lead Superfund Site (“Site”) in the Village of Ottawa, Putnam County, Ohio. The Consent Decree would require OSRAM and Philips to pay $450,000 and $120,000, respectively, in past costs for the removal action that took place at the Site from October 4, 2010 to January 6, 2011.

The publication of this notice opens a period for public comment on the Consent Decree. Comments should be addressed to the Acting Assistant Attorney General, Environment and Natural Resources Division, and should refer to United States of America v. OSRAM SYLVANIA Inc. and Philips Electronics North America Corporation, D.J. Ref. No. 90-11-3-10705.

All comments must be submitted no later than thirty (30) days after the publication date of this notice. Comments may be submitted either by email or by mail:

To submit comments: | Send them to:
By e-mail | pubcomment-ees.enrd@usdoj.gov.
By mail | Acting Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $4.50 (25 cents per page reproduction cost) payable to the United States Treasury.

Randall M. Stone,
Acting Assistant Section Chief, Environmental Enforcement Section, Environment and Natural Resources Division.

[FR Doc. 2014-17652 Filed 7-25-14; 8:45 am]

BILLING CODE 4410-15-P